DEPARTMENT OF ENERGY

Federal Energy Regulatory Commission

[Project No. 2532-094, Project No. 2454-085, Project No. 2663-064]

ALLETE, Inc.; Notice of Intent To File License Applications, Filing of Pre-Application Document (PAD), Commencement of ILP Pre-Filing Process, and Scoping; Request for Comments on the Pad and Scoping Document, and Identification of Issues and Associated Study Requests

a. Type of Filing: Notice of Intent to File License Applications for New Licenses and Commencing Pre-filing Process.

b. Project Nos.: P-2532-094, P-2454-085, and P-2663-064.

c. Dated Filed: March 30, 2023.

d. Submitted By: ALLETE, Inc. (ALLETE).

e. Name of Projects: Little Falls Hydroelectric Project (Little Falls Project), Sylvan Hydroelectric Project (Sylvan Project), and Pillager Hydroelectric Project (Pillager Project).

f. Location: The Little Falls Project is on the Mississippi River near the City of Little Falls in Morrison County, Minnesota. The Sylvan Project is located on the Crow Wing River near the City of Baxter in Cass, Crow Wing, and Morrison Counties, Minnesota. The Pillager Project is located on the Crow Wing River near the City of Pillager in Cass and Morrison Counties, Minnesota.

g. Filed Pursuant to: 18 CFR part 5 of the Commission's Regulations.

h. Applicant Contact: Mr. Greg Prom, Senior Environmental Compliance Specialist, Minnesota Power/ALLETE, Inc., 30 West Superior Street, Duluth, MN 55802-2093; Phone at (218) 355-3191 or email at gprom@allete.com.

i. FERC Contact: Jay Summers at (202) 502-8764; or email at jay.summers@ferc.gov.

j. Cooperating agencies: Federal, State, local, and Tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service under section 7 of the Endangered Species Act and the joint agency regulations thereunder at 50 CFR part 402 and (b) the State Historic Preservation Officer, as required by section 106, National Historic Preservation Act, and the implementing regulations of the Advisory Council on Historic Preservation at 36 CFR 800.2.

l. With this notice, we are designating ALLETE as the Commission's non-Federal representative for carrying out informal consultation, pursuant to section 7 of the Endangered Species Act and section 106 of the National Historic Preservation Act.

m. ALLETE filed with the Commission a Pre-Application Document (PAD; including a proposed process plan and schedule), pursuant to 18 CFR 5.6 of the Commission's regulations.

n. A copy of the PAD may be viewed on the Commission's website (http://www.ferc.gov) using the “eLibrary” link. Enter the docket number, excluding the last three digits in the docket number field, to access the document. For assistance, contact FERC at FERCOnlineSupport@ferc.gov or call toll-free, (866) 208-3676 or TYY, (202) 502-8659.

You may register online at https://ferconline.ferc.gov/FERCOnline.aspx to be notified via email of new filings and issuances related to these or other pending projects. For assistance, contact FERC Online Support.

o. With this notice, we are soliciting comments on the PAD and Commission staff's Scoping Document 1 (SD1), as well as study requests. All comments on the PAD and SD1, and study requests should be sent to the addresses above in paragraph h. In addition, all comments on the PAD and SD1, study requests, requests for cooperating agency status, and all communications to and from Commission staff related to the merits of the potential application must be filed with the Commission.

The Commission strongly encourages electronic filing. Please file all documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Little Falls Hydroelectric Project No. 2532-094 and/or Sylvan Hydroelectric Project No. 2454-085 and/or Pillager Hydroelectric Project No. 2663-064.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by July 28, 2023.

p. The Commission's scoping process will help determine the required level of analysis and satisfy the NEPA scoping requirements, irrespective of whether the Commission prepares an environmental assessment or Environmental Impact Statement.

Scoping Meetings

Commission staff will hold two scoping meetings for the projects to receive input on the scope of the NEPA document. An evening meeting will be held at 7:00 p.m. on June 21, 2023, at the Little Falls Service Center in Little Falls, Minnesota, and will focus on receiving input from the public. A daytime meeting will be held at 9:30 a.m. on June 22, 2023, at the same location, and will focus on the concerns of resource agencies, non-governmental organizations (NGOs), and Indian tribes. We invite all interested agencies, Indian Tribes, non-governmental organizations, and individuals to attend one or both of these meetings. The times and locations of these meetings are as follows:

Evening Scoping Meeting

Date: Wednesday, June 21, 2023

Time: 7:00 p.m. (CDT)

Place: Little Falls Service Center

Address: 1201 11th St. NE, Little Falls, MN 56345

Phone: (320) 632-2318 Ext. 5010

Daytime Scoping Meeting

Date: Thursday, June 22, 2023

Time: 9:30 a.m. (CDT)

Place: Little Falls Service Center

Address: 1201 11th St. NE, Little Falls, MN 56345

Phone: (320) 632-2318 Ext. 5010

SD1, which outlines the subject areas to be addressed in the environmental document, was mailed to the individuals and entities on the Commission's mailing list. Copies of SD1 will be available at the scoping meetings, or may be viewed on the web at http://www.ferc.gov, using the “eLibrary” link. Follow the directions for accessing information in paragraph n. Based on all oral and written comments, a Scoping Document 2 (SD2) may be issued. SD2 may include a revised process plan and schedule, as well as a list of issues, identified through the scoping process.

Environmental Site Reviews

The applicant and Commission staff will conduct environmental site reviews of the projects. All interested individuals, agencies, tribes, and NGOs are invited to attend. All participants are responsible for their own transportation to the sites and during the site visits. Please RSVP via email to gprom@allete.com or notify Greg Prom at (218) 355-3191 on or before June 14, 2023 if you plan to attend the environmental site reviews. The times and locations of the environmental site reviews are as follows:

Little Falls Hydroelectric Project

Date: Wednesday, June 21, 2023

Time: 10:30 a.m. (CDT)

Place: Little Falls Service Center; Little Falls Hydroelectric Project

Address: 1201 11th St. NE, Little Falls, MN 56345

Pillager Hydroelectric Project

Date: Wednesday, June 21, 2023

Time: 1:00 p.m. (CDT)

Place: Pillager Hydroelectric Project

Address: 13449 Pillager Dam Rd., Pillager, MN 56473

Sylvan Hydroelectric Project

Date: Wednesday, June 21, 2023

Time: 2:00 p.m. (CDT)

Place: Sylvan Hydroelectric Project

Address: 13753 Sylvan Dam Rd. SW, Pillager, MN 56473

Participants will meet at the Little Falls Service Center parking lot and depart to the Little Falls Project at 10:30 a.m. (CDT). All participants are responsible for their own transportation. After the site visit for the Little Falls Hydroelectric Project, participants will travel to the Pillager Project, located at 13449 Pillager Dam Rd., Pillager, MN 56473. After the site visit for the Pillager Project, participants will travel to the Sylvan Hydroelectric Project, located at 13753 Sylvan Dam Rd. SW, Pillager, MN 56473.

The applicant will provide hard hats and safety glasses to participants. However, all persons attending the environmental site reviews must wear sturdy, closed-toe shoes or boots.

Meeting Objectives

At the scoping meetings, staff will: (1) initiate scoping of the issues; (2) review and discuss existing conditions; (3) review and discuss existing information and identify preliminary information and study needs; (4) review and discuss the process plan and schedule for pre-filing activity that incorporates the time frames provided for in part 5 of the Commission's regulations and, to the extent possible, maximizes coordination of Federal, State, and Tribal permitting and certification processes; and (5) discuss the potential of any Federal or State agency or Indian Tribe acting as a cooperating agency for development of an environmental document.

Meeting participants should come prepared to discuss their issues and/or concerns. Please review the PAD in preparation for the scoping meetings. Directions on how to obtain a copy of the PAD and SD1 are included in paragraphs n and p, respectively, of this document.

Meeting Procedures

The meetings are recorded by a stenographer and become part of the formal record of the Commission proceeding on the project. Individuals, NGOs, Indian tribes, and agencies with environmental expertise and concerns are encouraged to attend the meeting and to assist the staff in defining and clarifying the issues to be addressed in the NEPA document.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 26, 2023.
Kimberly D. Bose,
Secretary.

[FR Doc. 2023-11768 Filed 6-1-23; 8:45 am]

BILLING CODE 6717-01-P